DEPARTMENT OF LABOR

Office of the Secretary

Agency Information Collection Activities; Submission for OMB Review; Comment Request; National Compensation Survey

ACTION: Notice of availability; request for comments.

SUMMARY: The Department of Labor (DOL) is submitting this Bureau of Labor Statistics (BLS)-sponsored information collection request (ICR) to the Office of Management and Budget (OMB) for review and approval in accordance with the Paperwork Reduction Act of 1995 (PRA). Public comments on the ICR are invited.

DATES: The OMB will consider all written comments that agency receives on or before March 31, 2021.

ADDRESSES: Written comments and recommendations for the proposed information collection should be sent within 30 days of publication of this notice to www.reginfo.gov/public/do/PRAMain. Find this particular information collection by selecting “Currently under 30-day Review—Open for Public Comments” or by using the search function.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Anthony May by telephone at 202-693-4129 (this is not a toll-free number) or by email at DOL_PRA_PUBLIC@dol.gov.

SUPPLEMENTARY INFORMATION: The National Compensation Survey (NCS) is an ongoing survey of earnings and benefits among private firms, State, and local government. Data from the NCS program include estimates of wages covering broad groups of related occupations, and data that directly links benefit plan costs with detailed plan provisions. The NCS is used to produce the Employment Cost Trends, including the Employment Cost Index (ECI) and Employer Costs for Employee Compensation (ECEC), employee benefits data (on coverage, cost, and provisions), and data used by the President's Pay Agent. This data is used by compensation administrators and researchers in the public and private sectors. Data from the NCS are used to help in determining monetary policy (as a Principal Federal Economic Indicator). The integrated program's single sample produces both time-series indexes and cost levels for industry and occupational groups, thereby increasing the analytical potential of the data.

The NCS employs probability methods for selection of occupations. This ensures that sampled occupations represent all occupations in the workforce, while minimizing the reporting burden on respondents. The survey collects data from a sample of employers. These data will consist of information about the duties, responsibilities, and compensation (earnings and benefits) for a sample of occupations for each sampled employer. Data will be updated on a quarterly basis. The updates will allow for production of data on change in earnings and total compensation.

This survey was revised to temporarily add questions to the National Compensation Survey to cover sick leave policy changes due to the coronavirus pandemic. These questions were collected primarily through email in June and July of 2020. These data were approved for collection under Emergency OMB Clearance Package 1220-0195, but they were discontinued on November 13, 2020. Respondents will electronically complete and submit responses through a simple fillable form. The additional sick leave policy questions are not intended to be collected beyond the July timeframe. At this time, BLS has discontinued in person data collection in response to the coronavirus pandemic. NCS will return to using in person interviews as a method of collection once restrictions are lifted. During this time, the NCS is relying heavily on telephone, email, and mail for current collection. Video interview collection is also available in response to the pandemic and is being considered as a standard collection method.

The NCS collects earnings and work level data on occupations for the nation. The NCS also collects information on the cost, provisions, and incidence of major employee benefits through its benefit cost and benefit provision programs and publications. BLS has for a number of years been using a revised approach to the Locality Pay Survey (LPS) component of the NCS; this uses data from two current BLS programs—the Occupational Employment Statistics (OES) survey and the ECI program. This approach uses OES data to provide wage data by occupation and by area, while ECI data are used to specify grade level effects. This approach is also being used to extend the estimation of pay gaps to areas that were not included in the prior Locality Pay Survey sample, and these data have been delivered to the Pay Agent (in 2019, data for 95 areas were delivered).

For additional substantive information about this ICR, see the related notice published in the Federal Register on June 11, 2020 (85 FR 35667).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-BLS.

Title of Collection: National Compensation Survey.

OMB Control Number: 1220-0164.

Affected Public: Private Sector: Businesses or other for-profits; not-for-profit institutions; State, local, and tribal governments.

Total Estimated Number of Respondents: 15,863.

Total Estimated Number of Responses: 49,717.

Total Estimated Annual Time Burden: 43,978 hours.

Total Estimated Annual Other Costs Burden: $0.

(Authority: 44 U.S.C. 3507(a)(1)(D))

Dated: February 23, 2021.
Anthony May,
Management and Program Analyst.

[FR Doc. 2021-04101 Filed 2-26-21; 8:45 am]

BILLING CODE 4510-24-P